DEPARTMENT OF JUSTICE

Office of Justice Programs

[OMB Number 1121-0243]

Agency Information Collection Activities; Proposed Collection; Comments Requested: Office of Justice Programs' Community Partnership Grants Management System (GMS)

ACTION: 60-Day Notice of Information Collection under Review.

The Department of Justice (DOJ), Office of Justice Programs (OJP), will be submitting the following information collection request to the Office of Management and Budget (OMB) for review and approval in accordance with the Paperwork Reduction Act of 1995. The proposed information collection is published to obtain comments from the public and affected agencies. Comments are encouraged and will be accepted for sixty days (60) until August 17, 2012. This process is conducted in accordance with 5 CFR 1320.10.

If you have additional comments on the estimated public burden or associated response time, suggestions, or need a copy of the proposed information collection instrument with instructions or additional information, please contact: Maria Swineford, (202) 616-0109, Office of Audit, Assessment, and Management, Office of Justice Programs, U.S. Department of Justice, 810 Seventh Street NW., Washington, DC 20531 or maria.swineford@usdoj.gov.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of Information Collection: Renewal of a currently approved collection (1121-0243).

(2) The Title of the Form/Collection: Community Partnership Grants Management System (GMS).

(3) The Agency Form Number, if any, and the Applicable Component of the Department Sponsoring the Collection: No form number available. Office of Justice Programs, Department of Justice.

(4) Affected Public Who Will Be Asked or Required to Respond, as Well as a Brief Abstract: The primary respondents are State, Local or Tribal Governments applying for grants. GMS is the OJP web-based grants applications system and award management system. GMS provides automated support throughout the award lifecycle. GMS facilitates reporting to Congress and other interested agencies. The system provides essential information required to comply with the Federal Funding Accountability and Transparency Act of 2006 (FFATA). GMS has also been designated the OJP official system of record for grants activities by the National Archives and Records Administration (NARA).

(5) An Estimate of the Total Number of Respondents and the Amount of Time Estimated for an Average Respondent to Respond: An estimated 10,128 organizations will respond to GMS and on average it will take each of them up to 14 hours to complete various award lifecycle processes within the system varying from application submission, award management and reporting, and award closeout.

(6) An Estimate of the Total Public Burden (in hours) Associated With the collection: The estimated public burden associated with this application is 142,100 hours.

If additional information is required contact: Jerri Murray, Department Clearance Officer, United States Department of Justice, Justice Management Division, Policy and Planning Staff, Two Constitution Square, 145 N Street NE., Washington, DC 20530.

Dated: June 13, 2012.
Jerri Murray,
Department Clearance Officer, PRA, U.S. Department of Justice.

[FR Doc. 2012-14746 Filed 6-15-12; 8:45 am]

BILLING CODE 4410-18-P